ENVIRONMENTAL PROTECTION AGENCY

[FRL OP-OFA-017]

Environmental Impact Statements; Notice of Availability

Responsible Agency: Office of Federal Activities, General Information 202-564-5632 or https://www.epa.gov/nepa.

Weekly receipt of Environmental Impact Statements (EIS)

Filed May 9, 2022 10 a.m. EST Through May 16, 2022 10 a.m. EST

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20220069, Draft, FERC, LA, Driftwood Line 200 and Line 300, Comment Period Ends: 07/05/2022, Contact: Office of External Affairs 866-208-3372.

EIS No. 20220070, Final, DOE, ID, Versatile Test Reactor Environmental Impact Statement, Review Period Ends: 06/21/2022, Contact: James Lovejoy 208-526-6805.

EIS No. 20220071, Draft Supplement, USFS, MT, Telegraph Vegetation Project Supplemental Environmental Impact Statement, Comment Period Ends: 07/05/2022, Contact: Katherine Bushnell 406-495-3747.

EIS No. 20220072, Final, Caltrans, CA, El Camino Real Roadway Renewal Project, Contact: Yolanda Rivas 510-506-1461. Pursuant to 23 U.S.C. 139(n)(2), Caltrans has issued a single FEIS and ROD. Therefore, the 30-day wait/review period under NEPA does not apply to this action.

Amended Notice

EIS No. 20220052, Draft, FHWA, IN, Mid-States Corridor Tier 1, Comment Period Ends: 06/14/2022, Contact: Michelle Allen 317-226-7344. Revision to FR Notice Published 04/15/2022; Extending the Comment Period from 05/31/2022 to 06/14/2022.

Dated: May 17, 2022.
Cindy S. Barger,
Director, NEPA Compliance Division, Office of Federal Activities.

[FR Doc. 2022-10870 Filed 5-19-22; 8:45 am]

BILLING CODE 6560-50-P